INTERNATIONAL TRADE COMMISSION

[Investigation No. 337-TA-1236]

Certain Polycrystalline Diamond Compacts and Articles Containing Same; Notice of Commission Determination Not To Review an Initial Determination Amending the Complaint and Notice of Investigation

AGENCY: U.S. International Trade Commission.

ACTION: Notice.

SUMMARY: Notice is hereby given that the U.S. International Trade Commission (“Commission”) has determined not to review an initial determination (“ID”) (Order No. 8) of the presiding administrative law judge (“ALJ”) granting an unopposed motion of complainant US Synthetic Corporation for leave to amend the complaint and notice of investigation to substitute Guangdong Juxin New Materials Technology Co., Ltd.as a respondent in place of Zhuhai Juxin Technology.

FOR FURTHER INFORMATION CONTACT: Ronald A. Traud, Esq., Office of the General Counsel, U.S. International Trade Commission, 500 E Street SW, Washington, DC 20436, telephone (202) 205-3427. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on December 29, 2020, based on a complaint filed by US Synthetic Corporation of Orem, Utah (“US Synthetic”). 85 FR 85661 (Dec. 29, 2020). The complaint alleges violations of section 337 of the Tariff Act of 1930, as amended, 19 U.S.C. 1337 (“section 337”), based upon the importation into the United States, the sale for importation, and the sale within the United States after importation of certain polycrystalline diamond compacts and articles containing same by reason of infringement of certain claims of U.S. Patent Nos. 9,932,274; 10,508,502; 9,315,881; 10,507,565; and 8,616,306. Id. The complaint further alleges that an industry in the United States exists as required by section 337. Id. The notice of investigation named numerous respondents, including Zhuhai Juxin Technology of Zhuhai, China. Id. at 85662. The Office of Unfair Import Investigations is not participating in the investigation. Id.

On February 4, 2021, US Synthetic filed an unopposed motion to substitute Guangdong Juxin New Materials Technology Co., Ltd. as a respondent in place of Zhuhai Juxin Technology.

On February 8, 2021, the ALJ issued Order No. 8, the subject ID, which granted the motion. The ID found that the motion complied with Commission Rule 210.14(b)(1).

No party petitioned for review of the subject ID.

The Commission has determined not to review the ID. Accordingly, Guangdong Juxin New Materials Technology Co., Ltd.is substituted as a respondent in place of Zhuhai Juxin Technology.

The Commission vote for this determination took place on February 24, 2021.

The authority for the Commission's determination is contained in section 337 of the Tariff Act of 1930, as amended (19 U.S.C. 1337), and in Part 210 of the Commission's Rules of Practice and Procedure (19 CFR part 210).

By order of the Commission.
Issued: February 24, 2021.
Lisa Barton,
Secretary to the Commission.

[FR Doc. 2021-04164 Filed 2-26-21; 8:45 am]

BILLING CODE 7020-02-P